DEPARTMENT OF COMMERCE

International Trade Administration

[A-570-863]

Honey from the People's Republic of China: Notice of Partial Rescission of Antidumping Duty Administrative Review

AGENCY: Import Administration, International Trade Administration, Department of Commerce.

ACTION: Notice of Partial Rescission of Antidumping Duty Administrative Review.

SUMMARY: On January 22, 2003, the Department of Commerce (the Department) published in the Federal Register (68 FR 3009) a notice announcing the initiation of the administrative review of the antidumping duty order on honey from the People's Republic of China. The period of review (POR) is February 10, 2001, to November 30, 2002. This review has now been rescinded for Shanghai Eswell Enterprise Co., Ltd. (Shanghai Eswell) because the requesting party withdrew its request.

EFFECTIVE DATE: May 6, 2003.

FOR FURTHER INFORMATION CONTACT: Brandon Farlander or Abdelali Elouaradia, Enforcement Group III, Office 8, Import Administration, International Trade Administration, U.S. Department of Commerce, 14th Street and Constitution Avenue, N.W., Room 7866, Washington, D.C. 20230; telephone (202) 482-0182 or (202) 482-1374, respectively.

SUPPLEMENTARY INFORMATION:

Scope of Review

The merchandise under review is honey from the PRC. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under item 0409.00.00, 1702.90.90 and 2106.90.99 of the Harmonized Tariff Schedule of the United States (HTSUS). Although the HTSUS subheading is provided for convenience and customs purposes, the written description of the merchandise under review is dispositive.

Background

On December 10, 2001, the Department of Commerce (the Department) published in the Federal Register an antidumping duty order covering honey from the People's Republic of China (PRC). See Notice of Amended Final Determination of Sales at Less Than Fair Value and Antidumping Duty Order; Honey from the People's Republic of China, 66 FR 63670 (December 10, 2001). On December 17, 2002, the Department published a Notice of Opportunity to Request an Administrative Review of Antidumping or Countervailing Duty Order, Finding, or Suspended Investigation, 67 FR 77222 (December 17, 2002). On December 31, 2002, the American Honey Producers Association and the Sioux Honey Association (collectively, petitioners) in this proceeding, requested, in accordance with section 351.213(b) of the Department's regulations, an administrative review of the antidumping duty order on honey from the PRC covering the period May 11, 2001, through November 30, 2002.¹

¹ On January 27, 2003, in a memorandum to the file, we determined that the POR for entities with affirmative findings of critical circumstances to be February 10, 2001, through November 30, 2002. See Memorandum to the File from Angelica L. Mendoza through Donna L. Kinsella, dated January 27, 2003 for further details.

The petitioners requested that the Department conduct an administrative review of entries of subject merchandise made by ten Chinese producers/exporters, which included Shanghai Eswell. The Department initiated the review for all companies. See Initiation of Antidumping and Countervailing Duty Administrative Reviews and Requests for Revocation in Part, 68 FR 3009 (January 22, 2003). On April 22, 2003, petitioners submitted a withdrawal of request for review for Shanghai Eswell.

Rescission of Review

The applicable regulation, 19 CFR 351.213(d)(1), states that if a party that requested an administrative review withdraws the request within 90 days of the publication of the notice of initiation of the requested review, the Secretary will rescind the review. The petitioners withdrew their review request with respect to Shanghai Eswell within the 90-day deadline, in accordance with 19 CFR 351.213(d)(1). Since petitioners were the only party to request an administrative review of Shanghai Eswell, we are rescinding this review of the antidumping duty order on honey from the PRC covering the period February 10, 2001, through November 30, 2002, with respect to Shanghai Eswell.

This notice is issued and published in accordance with sections 751 and 777(i) of the Act and 19 CFR 351.213(d)(4) of the Department's regulations.

Dated: April 30, 2003.
Barbara E. Tillman,
Acting Deputy Assistant Secretary for Import Administration, Group III.

[FR Doc. 03-11170 Filed 5-5-03; 8:45 am]

BILLING CODE 3510-DS-S